DEPARTMENT OF AGRICULTURE

Forest Service

Apache-Sitgreaves National Forests, Apache, Greenlee and Navajo Counties, AZ; Apache-Sitgreaves National Forests Public Motorized Travel Management Plan

AGENCY: Forest Service, USDA.

ACTION: Notice of intent to prepare an environmental impact statement; Correction.

SUMMARY: On October 10, 2007, the Federal Register published a Notice of Intent (NOI) to prepare an Environmental Impact Statement (EIS) for the Motorized Travel Management Plan on the Apache-Sitgreaves National Forests (72 FR 57514-57517). On October 31, 2007, the Federal Register published a corrected NOI for that document (72 FR 61607). The Apache-Sitgreaves National Forests then conducted five public meetings in November 2007, to present the proposed action. After careful and deliberate consideration of public input received during those meetings, the Forests Supervisor decided to modify the proposed action. As a result, the Forest Service is hereby entirely revising both NOI documents, Federal Register of October 10, 2007 (72 FR 57514-57517) and Federal Register of October 31, 2007 (72 FR 61607), to read as follows.

Revision: The Forest Service proposes to designate which routes (roads and trails) and areas on federal lands administered by the Forest Service within the Apache-Sitgreaves National Forests (Forests) are open to motorized travel. In doing so, the agency will comply with the requirements of the Forest Service 2005 Travel Management Rule. The Forest Service will produce a Motorized Vehicle Use Map (MVUM) that reveals those routes and areas on the Forests that are open to motorized travel. The MVUM will be the primary tool used to determine compliance and enforcement with motor vehicle use designations on the ground. Existing routes, user-created routes and areas not designated as open on the MVUM will be legally closed to motorized travel except as allowed by permit or other authorization. Cross-country motorized travel will be prohibited except by special permit. The decisions on motorized travel do not include over-snow travel or existing winter-use recreation and will not change the management of or restrict non-motorized methods of travel on the Forests.

DATES: Submit written or electronic issues and concerns related to the proposed action by March 14, 2008. The draft environmental impact statement is expected to be released in January 2009 and the final environmental impact statement is expected in April 2009.

ADDRESSES: Send written issues and concerns to Travel Management, Apache-Sitgreaves National Forests, P.O. Box 640, Springerville, AZ 85938. Electronic comments may be sent to asnf_travel_management@fs.fed.us with “Travel Management” in the subject line. Electronic comments must be readable in Microsoft Word (.doc), rich text (.rtf), Portable Document Format (pdf), text (.txt) or hypertext markup language (.html).

FOR FURTHER INFORMATION CONTACT: Jim Copeland, Team Leader at (928) 333-4301/(923) 339-4384.

SUPPLEMENTARY INFORMATION:

Purpose and Need for Action

The purpose of this action is to improve management of motorized (36 CFR 212.1, Motor Vehicle) vehicle travel on National Forest System (NFS) lands within the Apache-Sitgreaves National Forests (Forests) in accordance with provisions identified in 36 CFR parts 212, 251, 261, and 295 Travel Management; Designated Routes and Areas for Motor Vehicle Use; Final Rule. Currently, wheeled motorized vehicle travel by the public is not prohibited off designated routes except by signed Forests Orders. The number of user created routes continues to grow each year, with many routes having environmental impacts and safety concerns that have not been addressed. Therefore, there is a need to manage the Forests' transportation system in a sustainable manner through designation of NFS roads, motorized NFS trails, and areas for motor vehicle use, and the prohibition of motorized cross-country travel (except by permit or special order).

Proposed Action

The proposed action is to designate roads, trails, and areas open to motorized travel on lands administered by the Apache-Sitgreaves National Forests (Forests). Where it is appropriate and necessary, the designations will also specify seasons of use, type of vehicle(s) permitted, and types of use for those roads, trails, and areas. In doing so, the Forests will comply with requirements of the Forest Service 2005 Travel Management Rule (36 CFR part 212). As a result of these travel management decisions, the Forests will produce a Motorized Vehicle Use Map (MVUM) depicting those routes and areas on the Apache-Sitgreaves National Forests that are open to motorized travel.

In order to implement the proposed action, it will be necessary to amend some existing direction and terminology in the 1987 Apache-Sitgreaves National Forests Land and Resource Management Plan, as amended. These changes to the Forests Plan direction would be enduring changes and would apply to this decision and all subsequent project decisions unless and until further modified.

The Forests' public transportation system open to motorized travel under this proposal would be approximately 2,961 miles. Currently used closed roads (roads identified as closed in the Forests' database) and user created roads not identified as open under this proposal would no longer be open to public motorized use. Specifically, this proposed public motorized transportation system would allow for a balance between various recreational and commercial uses of the Forests. It would provide for various forms of reasonable motorized use on a designated system of routes in a responsible manner that addresses multiple resource concerns.

The proposed public motorized transportation system is depicted in detail on five maps, one for each Ranger District, collectively referred to as the Apache-Sitgreaves National Forests Public Motorized Travel Management Plan Modified Proposed Action Map, is located on the Forests' Web Site: http://www.fs.fed.us/r3/asnf/projects/travel-management.shtml. In addition, maps will be available for viewing at:

Supervisor's Office, 30 South Chiricahua St., Springerville, AZ.

Alpine Ranger District, Junction Hwy 180 & 191, Alpine, AZ.

Black Mesa Ranger District, 2748 E. Hwy 260, Overgaard, AZ.

Clifton Ranger District, 397240 AZ 75, Duncan, AZ.

Springerville Ranger District, 165 S. Mountain Ave., Springerville, AZ.

Lakeside Ranger District, 2022 W. White Mountain Blvd., Lakeside, AZ.

Other existing routes not shown on this map would not be open to public motorized travel. New routes would not be created except by written decision of an authorized Forest Service official. Unauthorized new routes would not be approved for public travel. If this proposal is selected for implementation, the information on this map would become the Motor Vehicle Use Map (MVUM) required by regulation and agency policy.

Under this proposal most of the proposed public motorized transportation system routes would occur on existing National Forest System (NFS) routes currently open to the public for motorized travel. This proposal also includes designation of some currently unauthorized user-created routes to connect existing NFS routes.

Approximately 1,956 miles of NFS roads would be designated for mixed-use as “roads open to all vehicles.” NFS roads not considered for mixed-use would be designated as “roads open to highway legal vehicles only” (695 miles), or “routes open only to vehicles 50″ or less in width” (310 miles).

This proposal would allow cross-country motorized big game retrieval (MBGR), up to 1 mile from a designated route, of legally harvested and properly tagged elk and mule deer during certain seasons, in certain Game Management Units, during certain times of the day. The intent of this segment of the proposal is to reduce spoilage and waste by providing reasonable access to downed animals that are difficult to move long distances without motorized assistance. This proposal would also allow Arizona Challenged Hunter Access/Mobility Permit (CHAMP) holders the ability for cross-country motorized game retrieval, up to 1 mile from a designated route, of legally harvested and properly tagged elk, mule deer, and black bear. Cross-country MBGR will be subject to other existing regulations intended to protect natural and/or heritage resources. This includes compliance with regulations addressing use of vehicles off roads (36 CFR 261.15), National Forest Wilderness (36 CFR 261.18), and National Forest Primitive Areas (36 CFR 261.21), as well as other applicable laws and regulations. No MBGR will be allowed in Wilderness or Primitive areas. Motorized cross-country retrieval of other game animals would not be allowed under this proposal because these animals are small enough to retrieve without motorized assistance. This proposal is consistent with 36 CFR 212.51(8)(b) and the recommendation from Arizona Game and Fish Department.

Roadside parking within vehicle length from the shoulder of designated routes is proposed, unless otherwise posted on-the-ground and provided it is safe to do so and without causing damage to NFS resources or facilities. this would allow the public to access many traditionally used dispersed campsites adjacent to NFS roads or within a short walking distance of those roads.

This proposal would allow dispersed motorized camping in designated dispersed campsites. Currently, the Forests have identified approximately 1,612 historically used dispersed camp sites. The Forests recognize that not all historically used day-use or dispersed camp sites have been identified and will continue to collaborate with the public to identify more sites. Motor vehicles would be allowed to travel the currently established route to designated areas for day-use parking or dispersed camping. This would allow for reasonable recreational use of NFS lands while reducing the potential for resource damage. Designated dispersed campsites would not be displayed on the MVUM.

This proposal would allow dispersed motorized camping off designated routes, in certain areas, under certain conditions. Motorized dispersed camping would be allowed along designated corridor routes. Designated routes with designated corridor camping would be displayed on the proposed action maps and would be displayed on the MVUM. Motorized vehicles would be permitted to travel 300 feet or less from either side of the centerline of designated corridor routes, using the most direct route to and from the campsite and the adjacent designated route. Cross-country motorized travel within the designated corridors would not be allowed for purposes of searching for or locating a campsite or other general travel. Currently, the Forests have identified approximately 938 miles of designated corridors on the Black Mesa (702 miles), Lakeside (1 mile), Springerville (78 miles), and Clifton (157 miles) Ranger Districts. The Alpine Ranger District proposes to meet the intent of the TMR and the needs of the recreating public by utilizing other strategies such as roadside parking and designated dispersed day-use and camp sites.

This proposal would allow cross-country motorized travel in eight designated Areas on the Black Mesa (6 areas) and Lakeside (2 areas) Ranger Districts that total approximately 5,989 acres. The intent is to provide expanded motorized travel opportunities in areas with multiple campsites, but without a defined transportation system. Designated cross-country travel Areas would be displayed on the MVUM and clearly marked on the ground.

Possible Alternatives

The initial proposed action presented to the public during November, 2007, may be included and analyzed in the EIS. In addition, the EIS will fully describe and evaluate the no action alternative and a full range of alternatives identified during scoping.

Responsible Official

The Responsible Official is the Forests Supervisor, Apache-Sitgreaves National Forests, P.O. Box 640, Springerville, AZ 85938.

Nature of Decision To Be Made

Based on the purpose and need for the proposed action, The Forests Supervisor will evaluate the proposed action and other alternatives in order to decide whether to adopt and implement the proposed action, an alternative to the proposed action, or take no action to make changes to the existing Apache-Sitgreaves National Forests transportation system. Once the decision is made, the Apache-Sitgreaves National Forests will publish a Motor Vehicle Use Map (MVUM) identifying the roads, trails, and areas that are designed for motor vehicle use. The MVUM shall specify the classes of vehicles and, if appropriate, the times of year for which use is designated.

Federal land managers are directed (Executive Order 11644, 36 CFR 212, and 43 CFR 8342.1) to provide for public use of routes designated as open, to ensure that the use of motorized vehicles and off-road vehicles will be controlled and directed so as to protect the resources of those lands under their authority, to promote the safety of users, and to minimize conflicts among various users of federal lands.

Public Involvement

The Apache-Sitgreaves National Forests hosted and participated in approximately 26 public meetings and workshops, relating to travel management and the Travel Analysis Process (TAP), during 2005 to 2007, across the Forests and local communities. Local citizens, State, county, local, and tribal governments and other Federal Agencies were invited to collaborate with the Forests on routes they wanted to remain open and/or closed or those routes that may be in conflict with other desired conditions. This preliminary, pre-NEPA public input was invaluable in helping the Forests develop the initial proposed action.

The Forests then hosted five public meetings to present to the public the initial proposed action; which was developed considering access to private lands within NFS lands boundaries, current and predicted future funding, and access to the Forests for public motorized and non-motorized recreation. After careful and deliberate consideration of public input received during those meetings, the Forests Supervisor decided to modify the initial proposed action.

Scoping Process

Public participation will be especially important at several points during the analysis. The Forests will be seeking information, comments, and assistance from Federal, State, and other local agencies and other individuals or organizations that may be interested in or affected by the modified proposed action. The Forests will conduct open-house meetings to inform the public and interested parties on this modified proposal. Comments on this proposed action will be taken only in written format during the meetings. The meetings are scheduled at the following locations, dates and times:

Show Low, AZ—March 6, 2008 (Thursday), from 3 p.m. to 7 p.m. and March 8, 2008 (Saturday), from 9 a.m. to 1 p.m., Show Low Public Library, 180 N. 9th Street.

Springerville, AZ—March 6, 2008 (Thursday), from 4 p.m. to 7 p.m. and March 8, 2008 (Saturday), from 9 a.m. to 1 p.m., Forest Service Supervisor's Office Conference Room, 30 South Chiricahua Drive.

Clifton, AZ—March 6, 2008 (Thursday), from 3 p.m. to 7 p.m., Clifton Community Center, Clifton Train Depot, 100 North Coronado Blvd. (U.S. Highway 191).

Safford, AZ—March 8, 2008 (Saturday), from 9 a.m. to 1 p.m., Bottom Floor Assembly Room, Graham County General Services Building, 921 Thatcher Blvd.

Heber, AZ—March 6, 2008 (Thursday), from 4 p.m. to 7 p.m. and March 8, 2008 (Saturday), from 9 a.m. to 1 p.m., Mogollon High School gymnasium, 3450 Mustang Ave.

Alpine, AZ—March 6, 2008 (Thursday), from 3 p.m. to 7 p.m. and March 8, 2008 (Saturday), from 9 a.m. to 1 p.m., Alpine Community Center, 42627 U.S. Highway 180.

Based on comments received as a result of this notice and after the Forests have conducted public open-house meetings and afforded the public sufficient time to respond to the modified proposed action, the Forests will use the public scoping comments and resource related input from the interdisciplinary team and other agency resource specialists to develop a set of significant issues to carry forward into the environmental analysis process.

The draft environmental impact statement (EIS) is expected to be filed with the Environmental Protection Agency (EPA) and available for public review in January, 2009. EPA will publish a notice of availability of the draft EIS in the Federal Register. The comment period on the draft EIS will extend 45 days from the date the EPA notice appears in the Federal Register. At that time, the draft EIS will be posted on the Forests Web Site and copies will be distributed to interested and affected agencies, organizations, and members of the public for their review and comment. It is very important that those interested in the management of the Apache-Sitgreaves National Forests participate at that time. Those who provide comments during the official 45-day comment period are eligible to appeal the decision under 36 CFR part 215. Interest expressed or comments provided on this project prior to or after the close of the official comment period will not constitute standing for appeal purposes. Comments must meet the requirements of 36 CFR 215.6.

The final EIS is scheduled to be completed in April, 2009. In the final EIS, the Forests are required to respond to substantive comments received during the draft EIS comment period that pertain to the environmental consequences discussed in the draft EIS and applicable laws, regulations, and policies considered in making the decision.

Preliminary Issues

The Forests have received some indications of potential issues from the initial public involvement process. Those potential issues include:

(1) Resource damage caused by inappropriate types of vehicle use, (e.g. motorized vehicles in fragile or steep terrain); proliferation of routes (e.g. parallel trails or roads, continued traffic on closed roads and travel off designated routes); and continued use during seasonal restrictions (e.g. routes closed to protect resources during wet or muddy seasons).

(2) Disturbing or harming wildlife by using routes in important or critical wildlife habitat areas, too many roads in wildlife habitat areas, and disturbances to wildlife during critical lifecycle periods.

(3) Concerns about recreational opportunities, including loss of access to NFS lands for recreational opportunities if cross-country and existing routes are closed to motorized travel; loss of primitive or semi-primitive non-motorized recreation opportunities if more routes or areas are opened to motorized travel; and how to appropriately and reasonably accommodate the rapidly growing number of motorized users desiring to use federal lands for recreational riding of OHVs.

(4) Concerns on how the system might be designed to facilitate effective enforcement.

(5) Safety concerns on routes where multiple vehicle types (e.g. full-sized trucks and cars, ATVs, motorcycles) are allowed at the same time.

(6) Impacts to multiple use management of the Forests if routes are reduced.

(7) Economic impacts to local and surrounding communities.

The Forests recognize that this list of issues is not complete and will be further defined and refined as scoping continues. The Forests intend to develop a comprehensive list of significant issues before the full range of alternatives is developed and the environmental analysis is begun.

Comment Requested

This revised notice of intent continues the scoping process which guides the development of the environmental impact statement for the Apache-Sitgreaves National Forests Public Wheeled Motorized Travel Management Plan.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the draft EIS comment period so that substantive comments and objections are made available to the Forests at a time when it can meaningfully consider them and respond to them in the final environmental impact statement.

To assist the Forests in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: February 20, 2008.
Deryl D. Jevons,
Acting Forests Supervisor, Apache-Sitgreaves National Forests.

[FR Doc. 08-882 Filed 2-28-08; 8:45 am]

BILLING CODE 3410-11-M